DEPARTMENT OF THE INTERIOR

Bureau of Land Management

[WO-2602-1060-PF-24-1A]

Submission to Office of Management and Budget—Information Collection, OMB Control Number 1004-0042

AGENCY: Bureau of Land Management, Interior.

ACTION: Notice and request for comments.

SUMMARY: In accordance with the Paperwork Reduction Act of 1995, the Bureau of Land Management (BLM) has submitted a request for an extension and revision of an approved information collection to the Office of Management and Budget (OMB) for approval.

DATES: The OMB is required to respond to this request within 60 days but may respond after 30 days. Submit your comments to OMB at the address below by November 28, 2007 to receive maximum consideration.

ADDRESSES: Send comments to the OMB, Interior Department Desk Officer (1004-0042), at OMB-OIRA via e-mail OIRA_DOCKET@omb.eop.gov or via facsimile at (202) 395-6566. Also please send a copy of your comments to BLM via Internet and include your name, address, and ATTN: 1004-0042 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Ted Hudson to obtain copies and explanatory material on this information collection at (202) 452-5042. Persons who use a telecommunication device for the deaf (TDD) may call the Federal Information Relay Service (FIRS) on 1-800-877-8330, 24 hours a day, seven days a week, to contact Mr. Hudson.

SUPPLEMENTARY INFORMATION: On June 21, 2006, the BLM published a notice in the Federal Register (71 FR 35696) requesting comments on the information collection. The comment period closed on August 21, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Protection, Management, and Control of Wild Free-Roaming Horses and Burros (43 CFR part 4700).

OMB Control Number: 1004-0042; Form Number BLM 4710-10.

Abstract: The BLM manages the wild free-roaming horse and burro program on public lands according to the regulations at 43 CFR part 4700. These regulations implement the following authorities:

(1) The Wild Free-Roaming Horse and Burro Act (16 U.S.C. 1331 et seq.); and

(2) The Federal Land Policy and Management Act (43 U.S.C. 1701 et seq.).

The BLM uses this information to approve the adoption of wild free-roaming horses and burros from the public lands and to process other transactions involving adopted horses and burros.

Burden Estimate: We estimate the completion time for this form and non-form information that is submitted on occasion to the BLM by individuals and households as follows:

Burden hours information collected | Number of actions per year | Burden hours per action (minutes) | Total annual burden hours
A Application for private maintenance. | 14,000 | 30 | 7,000
B Supporting information and certification for private maintenance of more than 4 wild horses or burros. | 12 | 10 | 2
C Request to terminate Private Maintenance and Care Agreement. | 320 | 30 | 160
D Request for replacement animals. | 120 | 30 | 60
Total | 14,452 |  | 7,222

Annual Responses: 14,452.

Application Fee Per Response: 0.

Non-hour Cost Burden: $7,200

Annual Burden Hours: 7,222.

Dated: October 24, 2007.
Ted R. Hudson,
Acting Chief, Division of Regulatory Affairs.

[FR Doc. E7-21261 Filed 10-26-07; 8:45 am]

BILLING CODE 4310-84-P